DEPARTMENT OF JUSTICE

[AAG/A Order No. 243-2001]

Privacy Act of 1974; System of Records

Pursuant to the Privacy Act of 1974 (5 U.S.C. 552a), the Immigration and Naturalization Service (INS), Department of Justice, proposes to modify the following systems of records—previously published July 8, 1997 (62 FR 36572) and October 10, 1995 (60 FR 52697), respectively:

The Immigration and Naturalization Service (INS) Alien File (A-File) and Central Index System (CIS), JUSTICE/INS-001A

Alien Status Verification Index (ASVI), JUSTICE/INS-009

INS proposes to add six new routine use disclosure provisions, identified as R, S, T, U, V, and W and to appropriately edit routine use J to JUSTICE/INS-001A. Routine use R permits disclosure of information from this system of records to appropriate health authorities that perform required medical examinations on individuals entering the United States. Release of this information assists these individuals in performing their oversight responsibilities. Routine use S ensures that the system of records is in compliance with the requirements of section 642(c) of the Illegal Immigration Reform and Immigrant Responsibility Act of 1996. Routine use T allows contractors access to INS information when performing a function on its behalf. Routine use U is necessary to assist other government agencies in the performance of their law enforcement functions. Routine use V is necessary to permit disclosure of information on individuals from this system to the Social Security Administration (SSA) so that the SSA will be able to issue valid social security numbers to certain aliens who have made a request for a social security number and card as part of the immigration process and in accordance with agreements in place between the INS, SSA and the Department of State. These interagency agreements, which are authorized by specific SSA regulations, concern the sharing of information on aliens so that the SSA may issue them social security numbers and appropriate cards if the aliens so request. Finally, routine use W allows disclosure to former employees when the Department requires information and/or consultation assistance from the former employee that is necessary for personnel-related or other official purposes regarding a matter within that person's former area of responsibility. (This routine use is also being added in JUSTICE/INS-009 as J.)

In INS-001A, Routine uses D and F includes an additional source, tribal governments. Routine use J required editing because no routine use is necessary to allow the applicant, petitioner, and/or respondent access to their record.

Also, the following sections have been modified. The “Categories of Records” portion in the system has been edited to include photographs as another form of information within the system. The “Retention and Disposal” section has been edited to reflect the actual language approved by the National Archives and Records Administration (NARA). Finally, the “Record Source” and “Systems Exempted From Certain Provisions of the Act” portions have been edited to improve clarification of the system.

Secondly, INS proposes to add three new routine use disclosures to JUSTICE/INS-009, identified as H, I, and J. Routine use H ensures that the system of records is in compliance with the requirements of Section 642(c) of the Illegal Immigration Reform and Immigrant Responsibility Act of 1996. Routine use I clarifies those entities having access to ASVI via partnership in the SAVE program. Lastly, routine use J has been added as explained above. Also, routine uses A, B, D, and F are being edited to clarify the system description (e.g., include an additional source, tribal governments; and amend the use of ASVI data). The “Retention and Disposal” section has been edited to reflect that the disposition schedule is no longer pending. Other minor corrections or edits have been made to the following sections, “Record Source” and “Systems Exempted From Certain Provisions of the Act.”

In accordance with 5 U.S.C. 552a(e)(4) and (11), the public is given a 30-day period in which to comment on proposed system modifications and new routine use disclosures. The Office of Management and Budget (OMB), which has oversight responsibilities under the Act, requires a 40-day period in which to conclude its review of the system. Therefore, please submit any comments (by 30 days from the publication date of this notice). The public, OMB, and the Congress are invited to send written comments to Mary Cahill, Management Analyst, Management and Planning Staff, Justice Management Division, Department of Justice, Washington, DC 20530 (Room 1400, National Place Building).

In accordance with 5 U.S.C. 552a(r), the Department has provided a report to OMB and the Congress on the proposed modifications.

Dated: August 21, 2001.
Janis A. Sposato,
Acting Assistant Attorney General for Administration.

JUSTICE/INS-001A

SYSTEM NAME:

The Immigration and Naturalization Service (INS) Alien File (A-File) and Central Index System (CIS).

SYSTEM LOCATION:

Headquarters, Regional, District, and other INS file control offices in the United States and foreign countries as detailed in JUSTICE/INS-999, last published April 13, 1999 (64 FR 18052). Remote access terminals will also be located in other components of the Department of Justice and in the Department of State on a limited basis.

CATEGORIES OF INDIVIDUALS COVERED BY THE SYSTEM:

A. Individuals covered by provisions of the Immigration and Nationality Act of the United States.

B. Individuals who are under investigation, or who were investigated by the INS in the past, or who are suspected of violating the criminal or civil provisions of treaties, statutes, Executive Orders, and Presidential proclamations administered by INS, and witnesses and informants having knowledge of such violations.

CATEGORIES OF RECORDS IN THE SYSTEM:

A. The computerized indexing system contains personal identification data such as A-File number, date, and place of birth, date and port of entry, as well as the location of each official hardcopy paper file known as the “A-file.” Microfilm records contain naturalization certificates and any supporting documentation prior to April 1, 1956; however, after that date, this type of information is maintained in the “A-file” which is described in B. below.

B. The hard copy A-file (prior to 1940 was called Citizenship File (C-File)) contains all the individual's official record material such as naturalization certificates; various forms (and attachments, e.g., photographs), applications and petitions for benefits under the immigration and nationality laws, reports of investigations; statements; reports; correspondence; and memoranda on each individual for whom INS has created a record under the Immigration and Nationality Act.

AUTHORITY FOR MAINTENANCE OF RECORDS:

Sections 103 and 290 of the Immigration and Nationality Act, as amended (8 U.S.C. 1103 and 8 U.S.C. 1360), and the regulations pursuant thereto.

PURPOSE:

The system is used primarily by INS and other Department of Justice employees to administer and enforce the immigration and nationality laws, and related statutes, including the processing of applications for benefits under these laws, detecting violations of these laws, and the referral of such violations for prosecution.

Routine Uses of Records Maintained in the System, Including Categories of Users and the Purposes of Such Uses:

Relevant information contained in this system of records may be disclosed as follows:

A. To clerks and judges of courts exercising naturalization jurisdiction for the purpose of filing petitions for naturalization and to enable such courts to determine eligibility for naturalization or grounds for revocation of naturalization.

B. To the Department of State in the processing of petitions or applications for benefits under the Immigration and Nationality Act, and all other immigration and nationality laws including treaties and reciprocal agreements.

C. To other federal, state, tribal, and local government law enforcement and regulatory agencies and foreign governments, including the Department of Defense and all components thereof, the Department of State, the Department of the Treasury, the Central Intelligence Agency, the Selective Service System, the United States Coast Guard, the United Nations, and INTERPOL, and individuals and organizations during the course of an investigation or the processing of a matter, or during a proceeding within the purview of the immigration and nationality laws, to elicit information required by INS to carry out its functions and statutory mandates.

D. To a federal, state, tribal, local or foreign government agency or organization, or international organization, lawfully engaged in collecting law enforcement intelligence information, whether civil or criminal, or charged with investigating, prosecuting, enforcing or implementing civil or criminal laws, related rules, regulations or orders, to enable these entities to carry out their law enforcement responsibilities, including the collection of law enforcement intelligence.

E. A record, or any facts derived therefrom, may be disseminated in a proceeding before a court or adjudicative body before which INS or the Department of Justice (DOJ) is authorized to appear when any of the following is a party to the litigation or has an interest in the litigation and such records are determined by INS or DOJ to be arguably relevant to the litigation: (1) INS, or any subdivision thereof, or (2) any employee of INS in his or her official capacity, or (3) any employee of INS in his or her individual capacity when the Department of Justice has agreed to represent the employee, and (4) the United States, where INS determines that the litigation is likely to affect it or any of its subdivisions.

F. To a federal, state, tribal, local or foreign government agency in response to its request, in connection with the hiring or retention by such agency of an employee, the issuance of a security clearance, the reporting of an investigation of such an employee, the letting of a contract, or the issuance of a license, grant, loan or other benefit by the requesting agency, to the extent that the information is relevant and necessary to the requesting agency's decision on the matter.

G. To a federal, state, local or foreign government agency maintaining civil, criminal or other relevant enforcement information or other pertinent information, such as current licenses, if necessary to obtain information relevant to a decision of INS concerning the hiring or retention of an employee, the issuance of a security clearance, the reporting of an investigation of an employee, the letting of a contract, or the issuance of a license, grant or other benefit.

H. To the Office of Management and Budget in connection with the review of private relief legislation as set forth in OMB Circular No. A-19 at any stage of the legislative coordination and clearance process as set forth in the Circular.

I. To other federal agencies for the purpose of conducting national intelligence and security investigations.

J. To an attorney or representative (as defined in 8 CFR 1.1(j)) who is acting on behalf of an individual covered by this system of records in connection with any proceeding before INS or the Executive Office for Immigration Review.

K. To a federal, state, tribal, or local government agency to assist such agencies in collecting the repayment of loans, or fraudulently or erroneously secured benefits, grants, or other debts owed to them or to the United States Government, and/or to obtain information that may assist INS in collecting debts owned to the United States Government; to a foreign government to assist such government in collecting the repayment of loans, or fraudulently or erroneously secured benefits, grants, or other debts owed to it provided that the foreign government in question (a) Provides sufficient documentation to establish the validity of the stated purpose of its request, and (b) provides similar information to the United States upon request.

L. To student volunteers whose services are accepted pursuant to 5 U.S.C. 3111 or to students enrolled in a college work-study program pursuant to 42 U.S.C. 2751 et seq.

M. To the news media and the public pursuant to 28 CFR 50.2 unless it is determined that release of the specific information in the context of a particular case would constitute an unwarranted invasion of personal privacy.

N. To a Member of Congress or staff acting upon the Member's behalf when the Member or staff requests the information on behalf of and at the request of the individual who is the subject of the record.

O. To the General Services Administration and the National Archives and Records Administration (NARA) in records management inspections conducted under the authority of 44 U.S.C. 2904 and 2906.

P. To an obligor who has posted a bond with the INS for the subject. INS may provide only such information as either may (1) aid the obligor in locating the subject to insure his or her presence when required by INS, or (2) assist the obligor in evaluating the propriety of the following actions by INS: either the issuance of an appearance demand or notice of a breach of bond—i.e., notice to the obligor that the subject of the bond has failed to appear which would render the full amount of the bond due and payable.

Q. To an official coroner for purposes of affirmatively identifying a deceased individual (whether or not such individual is deceased as a result of a crime).

R. Consistent with the requirements of the Immigration and Nationality Act, to the Department of Health and Human Services (HHS), the Centers for Disease Control and Prevention (CDC), or to any state or local health authorities, to provide proper medical oversight of INS-designated civil surgeons who perform medical examinations of both arriving aliens and of those requesting status as a lawful permanent resident, and to ensure that all health issues potentially affecting public health and safety in the United States are being or have been, adequately addressed. In addition, the names, addresses, and telephone numbers of designated civil surgeons are routinely provided to the CDC to enable the CDC to send its technical instructions to the designated civil surgeons.

S. To a federal, state or local government agency seeking to verify or ascertain the citizenship or immigration status of any individual within the jurisdiction of the agency for any purpose authorized by law.

T. To contractors, grantees, experts, consultants, students, and others performing or working on a contract, service, grant, cooperative agreement, or other assignment for the Federal Government, when necessary to accomplish an agency function related to this system of records.

U. To the appropriate agency/organization/task force, regardless of whether it is federal, state, local, foreign, or tribal, charged with the enforcement (e.g., investigation and prosecution) of a law (criminal or civil), regulation, or treaty, of any record contained in this system of records which indicates either on its face, or in conjunction with other information, a violation or potential violation of that law, regulation, or treaty.

V. To the Social Security Administration (SSA) for the purpose of issuing a social security number and card to an alien who has made a request for a social security number as part of the immigration process and in accordance with any related agreements in effect between the SSA and the Immigration and Naturalization Service and/or the Department of State entered into pursuant to 20 CFR 422.103(b)(3); 422.103(c); and 422.106(a), or other relevant laws and regulations.

W. Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System:

Storage:

Most A-file and C-file records are paper documents and are stored in file folders. Some microfilm and other records are stored in manually operated machines, file drawers, and filing cabinets. Those index records that can be accessed electronically are stored in a database on magnetic disk and tape.

Retrievability:

These records are indexed and retrieved by an individual's A-file or C-file number, name, and/or date of birth.

Safeguards:

INS offices are located in buildings under security guard, and access to premises is by official identification. All records are stored in spaces that are locked during non-duty office hours. Many records are stored in cabinets, open shelving, or machines that are also locked during non-duty office hours. Access to automated records is controlled by passwords and name identifications.

Retention and Disposal:

A-file records are retained for 75 years from the date the file is retired to the Federal Records Center or date of last action (whichever is earlier) and then destroyed. C-file records are to be destroyed 100 years from March 31, 1956. Automated master index records are permanent and will be transferred to NARA in 2005.

System Manager(s) and Address:

The Servicewide system manager is the Assistant Commissioner, Office of Records Services, Immigration and Naturalization Service, 425 Street NW, Fourth Floor, Union Labor Life Building, Washington, DC 20536.

Notification Procedure:

Address inquiries to the system manager identified above, the nearest INS office, or the INS office maintaining desired records, if known, by using the list of principal offices of the Immigration and Naturalization Service Appendix: JUSTICE/INS-999, last published in the Federal Register, April 13, 1999(64 FR 18052).

Record Access Procedure:

Make all requests for access in writing to the Freedom of Information Act/Privacy Act (FOIA/PA) officer at one of the addresses identified above. Clearly mark the envelope and letter “Privacy Act Request.” Provide the A-file number and/or the full name, date and place of birth, and notarized signature of the individual who is the subject of the record, and any other information which may assist in identifying and locating the record, and a return address. For convenience, INS Form G-639, FOIA/PA Request, may be obtained from the nearest INS office and used to submit a request for access.

Contesting Records Procedures:

Direct all requests to contest or amend information to the FOIA/PA Officer at one of the addresses identified above. State clearly and concisely the information being contested, the reason for contesting it, and the proposed amendment thereof. Clearly mark the envelope “Privacy Act Request.” The record must be identified in the same manner as described for making a request for access.

Record Source Categories:

Basic information contained in INS records is supplied by individuals —generally, individuals covered by this system of records—on Department of State and INS applications and forms. Other information comes from inquiries or complaints from members of the general public and members of Congress; referrals of inquiries or complaints directed to the President or Attorney General; INS reports to investigations, sworn statements, correspondence, official reports, memoranda, and written referrals from other entities, including federal, state, and local governments, various courts and regulatory agencies, foreign government agencies and international organizations.

Systems Exempted From Certain Provisions of the Act:

The Attorney General has exempted this system from subsections (c) (3) and (4), (d), (e) (1), (2), and (3), (e)(4) (G) and (H), (e) (5) and (8), and (g) of the Privacy Act. These exemptions apply only to the extent that records in the system are subject to exemption pursuant to 5 U.S.C. 552a (j)(2) and (k)(2). INS has published implementing regulations in accordance with the requirements of 5 U.S.C. 553 (b), (c), and (e) and these have been published in the Federal Register and can be found at 28 CFR 16.99.

Justice/INS-009

System Name:

Alien Status Verification Index.

System Location:

Immigration and Naturalization Service (INS), 425 I Street NW, Washington, DC 20536.

Categories of Individuals Covered by the System:

Individuals who are applicants, petitioners, beneficiaries, or possible violators of the Immigration and Nationality Act.

Categories of Records in the System:

The system consists of an index of aliens and other persons on whom INS has a record as an applicant, petitioner, beneficiary, or possible violator of the Immigration and Nationality Act. Records include index and file locator data such as last and first name, alien registration number (or “A-file” number), date and place of birth, social security account number, date coded status transaction data and immigration status classification, verification number, and an employment eligibility statement.

Authority for Maintenance of the System:

Sections 101 and 121 of the Immigration Reform and Control Act of 1986; Section 404 of the Illegal Immigration Reform and Immigrant Responsibility Act of 1996; 8 U.S.C. 1360; 8 U.S.C. 1324a; 8 U.S.C. 1373; 8 U.S.C. 1642; 20 U.S.C. 1091; 42 U.S.C. 1320b-7; 42 U.S.C. 1436; and Executive Order 12781.

Purpose:

This system of records is used to verify the individuals' immigrant, nonimmigrant, and/or eligibility status for any purpose consistent with INS statutory responsibilities.

Routine Uses of Records Maintained in the System, Including Categories of Users and the Purpose of Such Use:

Relevant information contained in this system of records may be disclosed as follows:

A. To a federal, state, tribal, or local government agency, or to a contractor acting on its behalf, to the extent that such disclosure is necessary to enable these agencies to make decisions concerning the (1) hiring or retention of an employee; (2) issuance of a security clearance; (3) reporting of an investigation of an employee; (4) letting of a contract; (5) issuance of a license or grant; or (6) determination of eligibility for a federal, state, or local program or other benefit. Such access may be via a system in which the recipient performs its own automated verification of the requisite information for deciding any of the above. INS will assign appropriate access codes for remote access through secured terminals to agencies which are to perform their own automated verification. Records may also be disclosed to these agencies for use in computer matching programs for the purpose of verifying eligibility of applicants for federal, state, or local programs or benefits.

B. To any person or entity, e.g., employers, agents of employers, state employment agencies, etc., authorized or required by law to participate in an employment verification program, any information which will enable such persons or entities to verify eligibility to work in the United States in compliance with the employer sanctions provisions of the Immigration Reform and Control Act of 1986. Such persons or other entities are assigned secure access codes and will have access through electronic means.

C. To the private contractor for maintenance and for other administrative support operations (e.g., preparing for INS management reimbursable cost reports etc. based on user access), to the extent necessary to perform such contract duties.

D. To other federal, state, tribal, or local government agencies for the purpose of verifying information in conjunction with the conduct of a national intelligence and security investigation or for criminal or civil law enforcement purposes.

E. To the news media and the public pursuant to 28 CFR 50.2 unless it is determined that release of the specific information in the context of a particular case would constitute an unwarranted invasion of personal privacy.

F. To a Member of Congress or staff acting upon the Member's behalf when the Member or staff request the information on behalf of and at the request of the individual who is the subject of the record.

G. To the National Archives and Records Administration (NARA) and the General Services Administration in records management inspections conducted under the authority of 44 U.S.C. 2904 and 2906.

H. To a federal, state, tribal, or local government agency participating in the INS Status Verification Program seeking to verify or ascertain the citizenship or immigration status of any individual within the jurisdiction of the agency for any purpose authorized by law.

I. To a person or entity authorized by a federal, state, tribal or local government agency to act as the agency's contractor, agent, grantee, or designee with respect to ascertaining or verifying immigration status for any purpose consistent with INS statutory responsibilities, and/or are otherwise authorized by law. INS would disclose to such person or entity only to the extent that it would otherwise disclose to the authorizing federal, state, tribal or local government agency pursuant to an applicable Privacy Act disclosure provision.

J. Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System: Storage:

Records are stored on magnetic disk and tape.

Retrievability:

Records are indexed and retrievable by name and date and place of birth, or by name and social security account number, by name and A-file number.

Safeguards:

Records are safeguarded in accordance with Department of Justice Orders governing security of automated records and Privacy Act systems of records. Access is controlled by restricted password for use of remote terminals in secured areas.

Retention and Disposal:

Information is destroyed when no longer needed.

System Manager and Address:

The Director, SAVE Branch, Immigration and Naturalization Service, 425 I Street NW, First Floor, Union Labor Life Building, Washington, DC 20536, is the sole manager of the system.

Notification Procedure:

Inquiries should be addressed to the system manager listed above.

Record Access Procedures:

In all cases, requests for access to a record from this system shall be in writing. If a request for access is made by mail the envelope and letter shall be clearly marked “Privacy Act Request.” The requester shall include the name, date and place of birth of the person whose record is sought and if known the alien file number. The requester shall also provide a return address for transmitting the information.

Contesting Record Procedures:

Any individual desiring to contest or amend information maintained in the system should direct his or her request to the System Manager or to the INS office that maintains the file. The request should state clearly what information is being contested, the reasons for contesting it, and the proposed amendment to the information.

Record Source Categories:

Basic information contained in this system is taken from Department of State and INS applications and reports on the individual.

Systems Exempted From Certain Provisions of the Act:

None.

[FR Doc. 01-22449 Filed 9-6-01; 8:45 am]

BILLING CODE 4410-10-P